NATIONAL SCIENCE FOUNDATION

Committee on Equal Opportunities in Science and Engineering; Notice of Meeting

In accordance with the Federal Advisory Committee Act (Pub. L. 92-463, as amended), the National Science Foundation announces the following meeting:

Name: Committee on Equal Opportunities in Science and Engineering (1173).

Dates and Time: February 15, 2005, 8:30 a.m.-5:30 p.m. and February 16, 2005, 8:30 a.m.-2 p.m.

Place: National Science Foundation, 4201 Wilson Boulevard, Room 1235 S, Arlington, VA 22230.

Type of Meeting: Open.

Contact Person: Dr. Margaret E.M. Tolbert, Senior Advisor and Executive Liaison, CEOSE, Office of Integrative Activities, National Science Foundation, 4201 Wilson Boulevard, Arlington, VA 22230, Telephone: (703) 292-8040.

Minutes: May be obtained from the Executive Liaison at the above address.

Purpose of Meeting: To provide advice and recommendations concerning broadening participation in science and engineering.

Agenda:

Tuesday, February 15, 2005

Welcome by the CEOSE Chair

Introductions

Review of CEOSE Meeting Agenda and Minutes

Discussions/Presentations:

Broadening Participation in Chemistry—Dr. Arthur B. Ellis, Director of the Chemistry Division/National Science Foundation

Congressionally Required Decennial and Biennial Reports Prepared by CEOSE Members

Dialogue with Dr. Arden L. Bement, Jr., Director of the National Science Foundation

Wednesday, February 16, 2005

Opening Statement by the CEOSE Chair

Discussions/Presentations:

Continuation of Unfinished Discussions of February 15, 2005

Response to Action Items in the CEOSE Meeting Minutes

Reports on NSF Advisory Committees

Plans for the Final Preparation and Distribution of the Single-Volume Decennial and 2004 Biennial Report to Congress

Information on the Nomination of New Members

Refinement of Recommendations by CEOSE

Selection of Dates for Future CEOSE Meetings

Dated: January 25, 2005.
Susanne Bolton,
Committee Management Officer.

[FR Doc. 05-1640 Filed 1-27-05; 8:45 am]

BILLING CODE 7999-01-M